DEPARTMENT OF DEFENSE

Department of the Navy

Notice of Availability of Inventions for Licensing; Government-Owned Inventions

AGENCY: Department of the Navy, DOD.

ACTION: Notice.

SUMMARY: The inventions listed below are assigned to the United States Government as represented by the Secretary of the Navy and are available for licensing by the Department of the Navy.

U.S. Patent Application Serial No. 09/296,802 entitled “An Interactive Communication System Permitting Increased Collaboration Between Users”, filing date: April 23, 1999, Navy Case No. 78947.

U.S. Patent Application Serial No. 09/296,746 entitled “Computer Software for Converting A General Purpose Computer Network Into An Interactive Communications System”, filing date: April 23, 1999, Navy Case No. 79258.

U.S. Patent Application Serial No. 09/296,757 entitled “A Method for Facilitating Collaborative Development Efforts Between Widely Dispersed Users”, filing date: April 23, 1999, Navy Case No. 79259.

ADDRESSES: Requests for copies of the patent applications cited should be directed to the Naval Surface Warfare Center, Dahlgren Laboratory, Code CD222, 17320 Dahlgren Road, Building 183, Room 015, Dahlgren, VA 22448-5100, and must include the Navy Case number.

FOR FURTHER INFORMATION CONTACT: James B. Bechtel, Patent Counsel, Naval Surface Warfare Center, Dahlgren Laboratory, Code CD222, 17320 Dahlgren Road, Building 183, Room 015, Dahlgren, VA 22448-5100, telephone (540)-653-8061.

(Authority: 35 U.S.C. 207, 37 CFR Part 404).

Dated: March 28, 2000.
J.L. Roth,
Lieutenant Commander, Judge Advocate General's Corps U.S. Navy, Federal Register Liaison Officer.

[FR Doc. 00-9016 Filed 4-11-00; 8:45 am]

BILLING CODE 3810-FF-P